DEPARTMENT OF JUSTICE

Notice of Lodging of Settlement Agreement

Notice is hereby given that the U.S. Department of Justice proposes to enter into a settlement agreement with Shell Oil Company and Motiva Enterprises, LLP (collectively, “the Shell entities”) regarding a portion of the Southeast Federal Center in Washington, DC.

The United States alleges that the Shell entities are liable to the United States for damages and cleanup costs incurred in connection with benzene, toluene, ethylbenzene and xylene contamination found in and around soil and groundwater beneath a portion of the Southeast Federal Center. The United States alleges that the contamination originated from leaking underground storage tanks located at a former filling station adjacent to the contamination. Under the settlement agreement, the Shell entities will pay $2.1 million to the United States and will monitor groundwater in accordance with a plan previously approved by the U.S. Environmental Protection Agency.

The Department of Justice will receive, for a period of thirty (30) days from the date of this publication, comments relating to the settlement agreement. Comments should be addressed to the Assistant Attorney General, Environment and Natural Resources Division, and either e-mailed to pubcomment-ees.enrd@usdoj.gov or mailed to P.O. Box 7611, U.S. Department of Justice, Washington, DC 20044-7611, and should refer to United States v. Motiva Enteriprises, LLP, D.J. Ref. 90-7-1-08569.

The Settlement Agreement may be examined at the General Services Administration, National Capital Region, 7th and D Streets, SW., Suite 7048, Washington, DC 20407. Visitors should make an appointment with Kathleen Ryan by calling (202) 708-5155. During the public comment period, the settlement agreement, may also be examined on the following Department of Justice Web site, http://www.usdoj.gov/enrd/Consent_Decrees.html. A copy of the settlement agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.50 (25 cents per page reproduction cost) payable to the U.S. Treasury or, if by e-mail or fax, forward a check in that amount to the Consent Decree Library at the stated address.

Robert Brook,
Assistant Chief, Environmental Enforcement Section Environment and Natural Resources Division.

[FR Doc. E9-1776 Filed 1-27-09; 8:45 am]

BILLING CODE 4410-15-P